DEPARTMENT OF ENERGY

Energy Information Administration

Agency Information Collection Extension, With Changes

AGENCY: U.S. Energy Information Administration (EIA), Department of Energy.

ACTION: Notice and request for OMB review and comment.

SUMMARY: The information collection requests a three-year extension of Form EIA-914 Monthly Crude Oil and Lease Condensate, and Natural Gas Production Report, OMB Control Number 1905-0205. This survey collects monthly state level data by well operator on crude oil and natural gas production within the United States. These data are used by EIA to estimate state, regional, and U.S. crude oil and natural gas production.

DATES: Comments regarding this proposed information collection must be received on or before November 1, 2017. If you anticipate that you will be submitting comments, but find it difficult to do so within the period of time allowed by this notice, please advise the DOE Desk Officer at OMB of your intention to make a submission as soon as possible. The Desk Officer may be telephoned at 202-395-4718.

ADDRESSES: Written comments should be sent to the:

DOE Desk Officer, Office of Information and Regulatory Affairs, Office of Management and Budget, New Executive Office Building, Room 10102, 735 17th Street NW., Washington, DC 20503, Chad S Whiteman@omb.eop.gov

And to:

U.S. Department of Energy, U.S. Energy Information Administration, Attn: Jessica Biercevicz, EI-24, Forrestal Building, 1000 Independence Avenue SW., Washington, DC 20585, jessica.biercevicz@eia.gov

FOR FURTHER INFORMATION CONTACT: Requests for additional information or copies of the information collection instrument and instructions should be directed to Jessica Biercevicz, Phone: 202-586-4299, Email: jessica.biercevicz@eia.gov.

SUPPLEMENTARY INFORMATION: This information collection request contains: (1) OMB No. 1905-0205; (2) Information Collection Request Title: Monthly Crude Oil and Lease Condensate, and Natural Gas Production Report; (3) Type of Request: Three-year extension with changes; (4) Purpose: Form EIA-914 Monthly Crude Oil and Lease Condensate, and Natural Gas Production Report, collects monthly data on natural gas production, crude oil and lease condensate production, and crude oil and lease condensate sales by API gravity category in 22 states/areas (Alabama, Arkansas, California (including State Offshore), Colorado, Federal Offshore Gulf of Mexico, Federal Offshore Pacific, Kansas, Louisiana (including State Offshore), Michigan, Mississippi (including State Offshore), Montana, New Mexico, North Dakota, Ohio, Oklahoma, Pennsylvania, Texas (including State Offshore), Utah, Virginia, West Virginia, Wyoming, and Other States (defined as all remaining states, except Alaska)). The data are published in the Monthly Crude Oil and Lease Condensate, and Natural Gas Production Report on EIA's Web site, and in the EIA publications: Monthly Energy Review, Petroleum Supply Annual volume I, Petroleum Supply Annual volume II, Petroleum Supply Monthly, Natural Gas Annual, and Natural Gas Monthly.

(4a) Changes to Information Collection

(1) Change the title from “Monthly Crude Oil, Lease Condensate, and Natural Gas Production Report,” to “Monthly Crude Oil and Lease Condensate, and Natural Gas Production Report.”

(2) For Sections 2 and 3, instead of selecting only one pre-existing comment in the comments box, the box will allow for the selection of multiple frequently-used pre-existing comments, as well as the ability to write-in producer specific comments.

(3) EIA will publish separate estimates for Alabama, Federal Offshore Pacific, Michigan, Mississippi, and Virginia and will no longer include data for these states in the “Other States” category. To separately publish these five new states/areas, EIA will collect crude oil and lease condensate production, crude oil and lease condensate sales (run ticket) volumes by API gravity, natural gas gross withdrawals, and natural gas lease production volumes. As a result, EIA will publish data for a total of 21 states/areas and one category designated “Other States.” The “Other States,” category will include the remaining states of Arizona, Florida, Idaho, Illinois, Indiana, Kentucky, Maryland, Missouri, Nebraska, Nevada, New York, Oregon, Tennessee, and South Dakota.

(5) Annual Estimated Number of Respondents: 500; (6) Annual Estimated Number of Total Responses: 6,000; (7) Annual Estimated Number of Burden Hours: 24,000; (8) Annual Estimated Reporting and Recordkeeping Cost Burden: EIA estimates that there are no capital and start-up costs associated with this data collection. The information is maintained during the normal course of business. The cost of burden hours to the respondents is estimated to be $1,767,840 (24,000 burden hours times $73.66). Other than the cost of burden hours, EIA estimates that there are no additional costs for generating, maintaining, and providing this information.

Statutory authority: Section 13(b) of the Federal Energy Administration Act of 1974, Pub. L. 93-275, codified as 15 U.S.C. 772(b) and the DOE Organization Act of 1977, P.L. 95-91, codified at 42 U.S.C. 7101 et seq.

Issued in Washington, DC, on September 27, 2017.
Tom Leckey,
Assistant Administrator, Office of Energy Statistics, U.S. Energy Information Administration.

[FR Doc. 2017-21076 Filed 9-28-17; 11:15 am]

BILLING CODE 6450-01-P